DEPARTMENT OF JUSTICE

Bureau of Alcohol, Tobacco, Firearms and Explosives

[OMB Number 1140-0010]

Agency Information Collection Activities: Proposed Collection; Comments Requested: Application To Transport Interstate or Temporarily Export Certain National Firearms Act Firearms

Correction

In notice document 2012-23465, appearing on page 58869 in the issue of Monday, September 24, 2012, make the following correction:

1. On page 58869, in the second column, in the first full paragraph, on the thirteenth line, the entry “December 24, 2012” should read “November 23, 2012”.

[FR Doc. C1-2012-23465 Filed 9-28-12; 8:45 am]

BILLING CODE 1505-01-D